DEPARTMENT OF COMMERCE

International Trade Administration

[A-533-824]

Polyethylene Terephthalate Film, Sheet, and Strip From India: Preliminary Results and Partial Rescission of Antidumping Duty Administrative Review; 2016-2017

AGENCY: Enforcement and Compliance, International Trade Administration, U.S. Department of Commerce.

SUMMARY: The Department of Commerce (Commerce) is conducting an administrative review of the antidumping duty order on polyethylene terephthalate film, sheet, and strip (PET film) from India. The period of review (POR) is July 1, 2016, through June 30, 2017. This review covers mandatory respondents Jindal Poly Films Ltd. (India) and SRF Limited of India, producers and exporters of PET film from India. Commerce preliminarily determines that sales of subject merchandise have been made below normal value by Jindal Poly Films Ltd. (India), and that sales of subject merchandise have not been made below normal value by SRF Limited of India during the POR. Interested parties are invited to comment on these preliminary results.

DATES: Applicable August 10, 2018.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On July 3, 2017, Commerce published in the Federal Register a notice of opportunity to request an administrative review of the antidumping duty order on PET film from India, for the period July 1, 2016, through June 30, 2017.¹ In accordance with section 751(a)(1) of the Tariff Act of 1930, as amended (the Act) and 19 CFR 351.213(b)(1), in July 2017, we received requests for reviews of the following companies: Chiripal Poly Films Limited (Chiripal); Ester Industries Limited (Ester); Garware Polyester Ltd. (Garware); MTZ Polyesters Ltd. (MTZ); Polyplex Corporation Ltd. (Polyplex); SRF Limited; SRF Limited of India; Jindal Poly Films Ltd. (India); Uflex Ltd. (Uflex); and Vacmet India Limited (Vacmet).²

¹ See Antidumping or Countervailing Duty Order, Finding or Suspended Investigation; Opportunity to Request Administrative Review, 82 FR 30833 (July 3, 2017).

² See the Petitioners' Letter, “Polyethylene Terephthalate Film, Sheet, and Strip (PET Film) from India, Request for Antidumping Duty Administrative Review,” dated July 31, 2017. See also the Petitioners' Letter, “Polyethylene Terephthalate Film, Sheet, and Strip (PET Film) from India, Amended Request for Antidumping Duty Administrative Review,” dated August 11, 2017. See also the Petitioners' Letter, “Polyethylene Terephthalate Film, Sheet, and Strip (PET Film) from India, Amended Request for Antidumping Duty Administrative Review,” dated August 30, 2017; see also Polyplex USA LLC's Letter, “Polyethylene Terephthalate Film, Sheet, and Strip (PET Film) from India: Request for Antidumping Duty Administrative Review,” dated July 28, 2017. See also Polyplex's Letter, “Polyethylene Terephthalate Film, Sheet, and Strip (PET Film) from India: Request for Antidumping Duty Administrative Review,” dated August 29, 2017; see also SRF Limited's Letter, “Polyethylene Terephthalate Film, (PET Film) from India/Request for Antidumping Admin Review/SRF Limited,” dated July 31, 2017; see also Jindal's Letter, “Polyethylene Terephthalate Film, (PET Film) from India/Request for Antidumping Admin Review/Jindal Poly Films Limited,” dated July 27, 2017; see also Chiripal's Letter, “Polyethylene Terephthalate (PET) Film, Sheet and Strip from India: Request for Administrative Review of Anti-Dumping Duty of Chiripal Poly Films Limited,” dated July 31, 2017.

Subsequently, on September 13, 2017, in accordance with 19 CFR 351.222(c)(1)(i), Commerce published a notice of initiation of an administrative review of the antidumping duty order on PET film from India.³

³ See Initiation of Antidumping and Countervailing Duty Administrative Reviews, 82 FR 42974 (September 13, 2017) (Initiation Notice).

On September 27, 2017, we released U.S. Customs and Border Protection (CBP) import data to eligible parties under the Administrative Protective Order and invited interested parties to submit comments with respect to the selection of respondents for individual examination.⁴

⁴ See Memorandum, “Antidumping Duty Administrative Review of Polyethylene Terephthalate Film, Sheet, and Strip (PET) Film from India: U.S. Customs Entries,” dated September 27, 2017.

On November 20, 2017, Commerce determined to limit the number of companies subject to individual examination in this administrative review, and selected Jindal Poly Films Ltd. (India) (Jindal) and SRF Limited of India (SRF) as mandatory respondents.⁵

⁵ See Memorandum, “Administrative Review of the Antidumping Duty Order on Polyethylene Terephthalate Film, Sheet, and Strip from India: Selection of Respondents for Individual Examination,” dated November 20, 2017 (Respondent Selection Memorandum). SRF Limited of India and SRF limited are the same company. See Memorandum, “Decision Memorandum for the Preliminary Results and Partial Rescission of Antidumping Duty Administrative Review: Polyethylene Terephthalate Film, Sheet, and Strip from India; 2016-2017,” dated concurrently with, and hereby adopted, by this notice (Preliminary Decision Memorandum) at 2-3.

We issued our initial questionnaires to Jindal and SRF on November 24, 2017, and November 27, 2017, respectively. The deadline for withdrawal requests was December 12, 2017.⁶ All review requests were timely withdrawn for two companies, MTZ and Uflex.

⁶ See 19 CFR 351.213(d)(1).

On January 23, 2018, Commerce issued a memorandum tolling all deadlines for this investigation by three days due to the shutdown of the federal government.⁷ On March 22, 2018, in accordance with section 751(a)(3)(A) of the Act, and 19 CFR 351.213(h)(2), Commerce extended the due date for the preliminary results by an additional 60 days, from April 5, 2018, to June 4, 2018.⁸ On June 1, 2018, in accordance with section 751(a)(3)(A) of the Act and 19 CFR 351.213(h)(2), Commerce extended the due date for the preliminary results by an additional 60 days. The current deadline is August 3, 2018.⁹

⁷ See Memorandum, “Deadlines Affected by the Shutdown of the Federal Government,” dated January 23, 2018. All deadlines in this segment of the proceeding have been extended by three days.

⁸ See Memorandum “Polyethylene Terephthalate Film, Sheet and Strip from India: Extension of Deadline for Preliminary Results of Antidumping Duty Administrative Review (2016-2017),” dated March 22, 2018.

⁹ See Memorandum, “Polyethylene Terephthalate Film from Taiwan: Extension of Deadline for Preliminary Results of Antidumping Duty Administrative Review (2016-2017),” dated June 1, 2018.

Scope of the Order

The products covered by this order are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Partial Rescission of Administrative Review

Commerce initiated a review of ten companies in this proceeding.¹⁰ We are rescinding this administrative review with respect to MTZ and Uflex, pursuant to 19 CFR 351.213(d)(1), because all review request of these companies were timely withdrawn.¹¹ Accordingly, the companies that remain subject to the instant review are: Chiripal; Ester; Garware; Jindal; Polyplex, SRF; and Vacmet India Limited.

¹⁰ See Initiation of Antidumping and Countervailing Duty Administrative Reviews, 82 FR 42974 (September 13, 2017) (Initiation Notice).

¹¹ See Preliminary Decision Memorandum.

Methodology

Commerce is conducting this review in accordance with section 751(a)(2) of the Act. Export price is calculated in accordance with section 772 of the Act. Normal value is calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov and is available to all parties in the Central Records Unit in room B8024 of the main Commerce building. In addition, a complete version of the Decision Memorandum can be accessed directly on the internet at http://enforcement.trade.gov/frn/index.html. The signed and electronic versions of the Preliminary Decision Memorandum are identical in content.

Companies Not Selected for Individual Review

In accordance with section 735(c)(5) of the Tariff Act of 1930, as amended (the Act), we preliminarily assign to those companies not selected for individual review the rate calculated for Jindal in this review, because SRF's rate is de minimis.¹²

¹² See the Preliminary Decision Memorandum.

Preliminary Results of Review

As a result of this review, we preliminarily determine the following weighted-average dumping margins for the period July 1, 2016, through June 30, 2017.

Manufacturer/exporter | Weighted- average margin (percent)
Jindal Poly Films Ltd. (India) ¹³ | 5.50
SRF Limited of India | 0.00
Garware Polyester Ltd | 5.50
Chiripal Poly Films Limited | 5.50
Polyplex Corporation Ltd | 5.50
Ester Industries Limited | 5.50
Vacmet India Limited | 5.50

Disclosure and Public Comment

¹³ The Initiation Notice also lists the company as Jindal Poly Films Limited of India. Commerce has previously determined that Jindal Poly Films Limited of India is the same company as Jindal Poly Films Ltd. (India). See Polyethylene Terephthalate Film, Sheet, and Strip from India: Preliminary Results and Partial Rescission of Antidumping Duty Administrative Review; 2015-2016, 82 FR 36735 (August 7, 2017), and accompanying Preliminary Decision Memorandum at FN 1 (unchanged in Polyethylene Terephthalate Film, Sheet, and Strip from India: Final Results of Antidumping Duty Administrative Review; 2015-2016, 83 FR 6162 (February 13, 2018)).

We intend to disclose the calculations performed to parties in this proceeding within five days after public announcement of the preliminary results in accordance with 19 CFR 351.224(b). Pursuant to 19 CFR 351.309(c), interested parties may submit case briefs not later than 30 days after the date of publication of this notice. Rebuttal briefs, limited to issues raised in the case briefs, may be filed not later than five days after the date for filing case briefs.¹⁴ Parties who submit case briefs or rebuttal briefs in this proceeding are encouraged to submit with each argument: (1) A statement of the issue; (2) a brief summary of the argument; and (3) a table of authorities.¹⁵

¹⁴ See 19 CFR 351.309(d).

¹⁵ See 19 CFR 351.303 (for general filing requirements).

Pursuant to 19 CFR 351.310(c), interested parties who wish to request a hearing, must submit a written request to the Acting Assistant Secretary for Enforcement and Compliance, filed electronically via ACCESS. An electronically filed document must be received successfully in its entirety by Commerce's electronic records system, ACCESS, by 5 p.m. Eastern Time within 30 days after the date of publication of this notice. Requests should contain: (1) The party's name, address and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon completion of this administrative review, Commerce shall determine, and U.S. Customs and Border Protection (CBP) shall assess, antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

Commerce clarified its “automatic assessment” regulation on May 6, 2003.¹⁶ This clarification applies to entries of subject merchandise during the POR produced by a respondent for which it did not know its merchandise was destined for the United States. In such instances, we will instruct CBP to liquidate unreviewed entries at the all-others rate if there is no rate for the intermediate company(ies) involved in the transaction.

¹⁶ For a full discussion of this clarification, see Antidumping and Countervailing Duty Proceedings: Assessment of Antidumping Duties, 68 FR 23954 (May 6, 2003) (Assessment Policy Notice).

We intend to issue instructions to CBP 15 days after publication of the final results of this review.

Assessment and Cash Deposit Requirements

The following deposit requirements will be effective for all shipments of PET film from India entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 5.71 percent.¹⁷ These cash deposit requirements, when imposed, shall remain in effect until further notice.

¹⁷ See Polyethylene Terephthalate Film, Sheet, and Strip from India: Final Results of Antidumping Duty Administrative Review; 2015-2016, 83 FR 6162 (February 13, 2018).

Notification to Interested Parties

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213(h)(1).

Dated: August 3, 2018.
Christian Marsh,
Deputy Assistant Secretary for Enforcement and Compliance.

Appendix

List of Topics Discussed in the Preliminary Decision Memorandum

I. Summary

II. Background

III. Partial Rescission of Administrative Review

IV. Scope of the Order

V. Product Comparisons

VI. Comparison to Normal Value

1. Determination of Comparison Method

2. Results of the Differential Pricing Analysis

3. Date of Sale

4. Export Price

5. Normal Value

6. Calculation of Normal Value Based on Comparison Market Prices

7. Currency Conversion

VII. Companies Not Selected

VIII. Recommendation

[FR Doc. 2018-17178 Filed 8-9-18; 8:45 am]

BILLING CODE 3510-DS-P